DEPARTMENT OF TRANSPORTATION

Federal Aviation Administration

14 CFR Part 71

[Docket No. FAA-2024-1457; Airspace Docket No. 24-AWA-1]

RIN 2120-AA66

Amendment of Class C Airspace Description; Manchester Boston Regional Airport, NH

AGENCY: Federal Aviation Administration (FAA), DOT.

ACTION: Final rule.

SUMMARY: This action amends the Manchester Boston Regional Airport (MHT), NH, Class C airspace area description by making editorial changes to the northern shelf boundary of the Class C airspace from using the Manchester, NH (MHT), Very High Frequency Omnidirectional Range/Distance Measuring Equipment (VOR/DME) to use the Manchester Boston Regional Airport, Airport Reference Point (ARP). Additionally, this action makes minor editorial amendments to the airspace description header to follow current formatting guidelines. These changes are editorial only and do not alter the current boundaries, altitudes, Air Traffic Control (ATC) procedures, or operating requirements for the Manchester Boston Regional Airport Class C airspace.

DATES: Effective date 0901 UTC, September 5, 2024. The Director of the Federal Register approves this incorporation by reference action under 1 CFR part 51, subject to the annual revision of FAA Order JO 7400.11 and publication of conforming amendments.

ADDRESSES: A copy of this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The Manchester, NH (MHT), VOR/DME is one of the candidate VORs identified for discontinuance by the FAA's VOR Minimum Operational Network (MON) program and listed in the final policy statement notice, “Provision of Navigation Services for the Next Generation Air Transportation System (NextGen) Transition to Performance-Based Navigation (PBN) (Plan for Establishing a VOR Minimum Operational Network),” published in the Federal Register on July 26, 2016 (81 FR 48694), Docket No. FAA-2011-1082. The FAA is planning to decommission only the VOR portion of the Manchester VOR/DME in September 2024.

The Manchester Regional Boston Airport, NH, Class C airspace area description uses the Manchester VOR/DME to describe the northern shelf boundary of the Class C airspace. To retain the accuracy of the Manchester Regional Boston Airport Class C airspace area, the FAA is removing reference to the Manchester VOR/DME in the northern shelf description and replace it with bearings and distances from the Manchester Boston Regional Airport, ARP.

Incorporation by Reference

Class C airspace designations are published in paragraph 4000 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by making editorial changes to the Manchester Regional Boston Airport, NH, Class C airspace description. This action removes references to the Manchester VOR/DME in northern shelf boundary of the Class C airspace and replaces it with bearings and distances from the Manchester Boston Regional Airport, ARP. The Class C airspace boundaries affected by the Manchester VOR/DME will remain unchanged and unaffected by replacing the Manchester VOR/DME references with bearings and distances from the Manchester Boston Regional Airport, ARP.

Additionally, in the description of the ARP for the Boire Field Airport, NH, the city name is removed from the fourth line in the text header leaving just the airport name and state which align with the current formatting standard.

Since this action merely involves minor editorial amendments in the Manchester, NH, Class C airspace area description and does not change the charted boundaries, altitudes, ATC procedures, or operating requirements for the Class C airspace area, notice and public procedure under 5 U.S.C. § 553(b) are unnecessary and contrary to the public interest.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action amending the Manchester Regional Boston Airport, NH, Class C airspace description, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, signed August 11, 2023, and effective September 15, 2023, is amended as follows:

Paragraph 4000 Class C Airspace.

* * * * *

ANE NH C Manchester, NH

Manchester Boston Regional Airport, NH (Primary Airport)

(Lat. 42°55′58″ N, long. 71°26′09″ W)

Boire Field Airport, NH

(Lat. 42°46′57″ N, long. 71°30′51″ W)

That airspace extending upward from the surface to and including 4,300 feet MSL within a 5-mile radius of the Manchester Boston Regional Airport; including that airspace extending upward from 2,500 feet MSL to and including 4,300 feet MSL within a 10-mile radius of the airport; including that airspace from 1,500 feet MSL between a 5-mile radius and 10-mile radius south of the airport from Interstate 93 clockwise to the eastern edge of the 5-mile radius of Boire Field Airport; including that airspace from 2,000 feet MSL between a 5-mile radius and 10-mile radius north of the airport from a line formed by a point at the 307° bearing from the airport at 5 miles direct to a point at the 311° bearing from the airport at 10 miles clockwise to Interstate 93.

* * * * *

Issued in Washington, DC, on May 29, 2024.
Frank Lias,
Manager, Rules and Regulations Group.

[FR Doc. 2024-12151 Filed 6-5-24; 8:45 am]

BILLING CODE 4910-13-P